DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Connecticut: New Haven (FEMA Docket No.: B-1821). | City of New Haven (18-01-0359P). | The Honorable Toni N. Harp, Mayor, City of New Haven, 165 Church Street, New Haven, CT 06510. | Planning Department, 165 Church Street, New Haven, CT 06510. | June 22, 2018 | 090084
Florida:
Broward (FEMA Docket No.: B-1821). | City of Hollywood (17-04-3432P). | The Honorable Josh Levy, Mayor, City of Hollywood, P.O. Box 229405, Hollywood, FL 33022. | City Hall, 2600 Hollywood Boulevard, Hollywood, FL 33020. | June 20, 2018 | 125113
Collier (FEMA Docket No.: B-1816). | Unincorporated areas of Collier County (18-04-0709P). | The Honorable Penny Taylor, Chair, Collier County Board of Commissioners, 3299 Tamiami Trail East, Suite 303, Naples, FL 34112. | Collier County Administrative Building, 3301 East Tamiami Trail, Building F, 1st Floor, Naples, FL 34112. | June 14, 2018 | 120067
Lee (FEMA Docket No.: B-1821). | City of Sanibel, (17-04-7625P). | The Honorable Kevin Ruane, Mayor, City of Sanibel, 800 Dunlop Road, Sanibel, FL 33957. | Planning Department, 800 Dunlop Road, Sanibel, FL 33957. | June 25, 2018 | 120402
Lee (FEMA Docket No.: B-1816). | Town of Fort Myers Beach (18-04-0640P). | The Honorable Dennis C. Boback, Mayor, Town of Fort Myers Beach, 2525 Estero Boulevard, Fort Myers Beach, FL 33931. | Community Development Department, 2525 Estero Boulevard, Fort Myers Beach, FL 33931. | June 14, 2018 | 120673
Manatee (FEMA Docket No.: B-1816). | City of Bradenton (18-04-1119P). | The Honorable Wayne H. Poston, Mayor, City of Bradenton, 101 Old Main Street West, Bradenton, FL 34205. | City Hall, 101 Old Main Street West, Bradenton, FL 34205. | June 15, 2018 | 120155
Manatee (FEMA Docket No.: B-1816). | Unincorporated areas of Manatee County (18-04-1119P). | The Honorable Betsy Benac, Chair, Manatee County Board of Commissioners, P.O. Box 1000, Bradenton, FL 34206. | Manatee County Building and Development Services Department, 1112 Manatee Avenue West, Bradenton, FL 34205. | June 15, 2018 | 120153
Miami-Dade (FEMA Docket No.: B-1821). | City of Miami (17-04-7381P). | The Honorable Francis Suarez, Mayor, City of Miami, 3500 Pan American Drive, Miami, FL 33133. | Building Department, 444 Southwest 2nd Avenue, Miami, FL 33133. | June 20, 2018 | 120650
Monroe (FEMA Docket No.: B-1821). | Unincorporated areas of Monroe County (18-04-0838P). | The Honorable David Rice, Mayor, Monroe County Board of Commissioners, 9400 Overseas Highway, Suite 210, Marathon, FL 33050. | Monroe County Building Department, 9805 Overseas Highway, Suite 300, Marathon, FL 33050. | June 15, 2018 | 125129
Pinellas (FEMA Docket No.: B-1821). | City of Clearwater (18-04-0912P). | The Honorable George N. Cretekos, Mayor, City of Clearwater, P.O. Box 4748, Clearwater, FL 33758. | Engineering Department, 100 South Myrtle Avenue, Suite 220, Clearwater, FL 33758. | June 25, 2018 | 125096
Sarasota (FEMA Docket No.: B-1821). | Unincorporated areas of Sarasota County (18-04-1102P). | The Honorable Nancy Detert, Chair, Sarasota County Board of Commissioners, 1660 Ringling Boulevard, Sarasota, FL 34236. | Sarasota County Planning and Development Services Department, 1001 Sarasota Center Boulevard, Sarasota, FL 34240. | June 15, 2018 | 125144
Seminole (FEMA Docket No.: B-1821). | City of Oviedo (17-04-2581P). | The Honorable Dominic Persampiere, Mayor, City of Oviedo, 400 Alexandria Boulevard, Oviedo, FL 32765. | Public Works Department, 1655 Evans Street, Oviedo, FL 32765. | June 15, 2018 | 120293
Seminole (FEMA Docket No.: B-1821). | Unincorporated areas of Seminole County (17-04-2581P). | The Honorable John Horan, Chairman, Seminole County Board of Commissioners, 1101 East 1st Street, Sanford, FL 32771. | Seminole County Development Review Division, 1101 East 1st Street, Sanford, FL 32771. | June 15, 2018 | 120289
Maryland: Prince George's (FEMA Docket No.: B-1821). | Unincorporated areas of Prince George's County (17-03-2338P). | The Honorable Rushern L. Baker, III, Prince George's County Executive, 14741 Governor Oden Bowie Drive, Upper Marlboro, MD 20772. | Prince George's County Department of Stormwater Management, 1801 McCormick Drive, Largo, MD 20774. | June 20, 2018 | 245208
North Carolina:
Wake (FEMA Docket No.: B-1821). | City of Raleigh (16-04-2597P). | The Honorable Nancy McFarlane, Mayor, City of Raleigh, P.O. Box 590, Raleigh, NC 27602. | Stormwater Management Division, 1 Exchange Plaza, Suite 304, Raleigh, NC 27601. | June 27, 2018 | 370243
Wake (FEMA Docket No.: B-1821). | City of Raleigh (16-04-2710P). | The Honorable Nancy McFarlane, Mayor, City of Raleigh, P.O. Box 590, Raleigh, NC 27602. | Stormwater Management Division, 1 Exchange Plaza, Suite 304, Raleigh, NC 27601. | June 27, 2018 | 370243
Wake (FEMA Docket No.: B-1821). | Town of Knightdale (16-04-2597P). | The Honorable James Roberson, Mayor, Town of Knightdale, 950 Steeple Square Court, Knightdale, NC 27545. | Town Hall, 950 Steeple Square Court, Knightdale, NC 27545. | June 27, 2018 | 370241
Oklahoma: Grady (FEMA Docket No.: B-1816). | City of Chickasha (17-06-2589P). | Mr. John Noblitt, Manager, City of Chickasha,117 North 4th Street, Chickasha, OK 73018. | City Hall, 117 North 4th Street, Chickasha, OK 73018. | June 11, 2018 | 400234
Pennsylvania:
Bedford (FEMA Docket No.: B-1821). | Borough of Hyndman (17-03-2585P). | The Honorable Newton Huffman, Mayor, Borough of Hyndman, P.O. Box 74, Hyndman, PA 15545. | Borough Hall, 3945 Center Street, Hyndman, PA 15545. | June 25, 2018 | 420121
Bedford (FEMA Docket No.: B-1821). | Township of Londonderry (17-03-2585P). | The Honorable Stephen Stouffer, Chairman, Township of Londonderry Board of Supervisors, P.O. Box 215, Hyndman, PA 15545. | Township Hall, 4303 Hyndman Road, Hyndman, PA 15545. | June 25, 2018 | 421345
Lancaster (FEMA Docket No.: B-1821). | Township of Manheim (17-03-1486P). | Mr. Sean P. Molchany, Manager-Secretary, Township of Manheim, 1840 Municipal Drive, Lancaster, PA 17601. | Township Hall, 1840 Municipal Drive, Lancaster, PA 17601. | June 15, 2018 | 420556
Lancaster (FEMA Docket No.: B-1816). | Township of Warwick (18-03-0392P). | Mr. Daniel L. Zimmerman, Manager, Township of Warwick, P.O. Box 308, Lititz, PA 17543. | Township Hall, 315 Clay Road, Lititz, PA 17543. | June 15, 2018 | 421786
Lycoming (FEMA Docket No.: B-1821). | Township of Loyalsock (18-03-0265P). | Mr. William Burdett, Manager, Township of Loyalsock, 2501 East 3rd Street, Williamsport, PA 17701. | Township Hall, 2501 East 3rd Street, Williamsport, PA 17701. | June 19, 2018 | 421040
Somerset (FEMA Docket No.: B-1821). | Borough of Rockwood (18-03-0266P). | The Honorable Melissa Cramer, Mayor, Borough of Rockwood, 669 Somerset Avenue, Rockwood, PA 15557. | Borough Hall, 669 Somerset Avenue, Rockwood, PA 15557. | June 20, 2018 | 422045
South Carolina:
Berkley (FEMA Docket No.: B-1816). | Unincorporated areas of Berkley County (17-04-5508P). | The Honorable William W. Peagler, III, Berkley County Supervisor, P.O. Box 6122, Moncks Corner, SC 29461. | Berkeley County Planning and Zoning Department, 1003 Highway 52, Moncks Corner, SC 29461. | June 14, 2018 | 450029
Charleston (FEMA Docket No.: B-1821). | City of Folly Beach (17-04-4686P). | The Honorable Timothy M. Goodwin, Mayor, City of Folly Beach, P.O. Box 48, Folly Beach, SC 29439. | Building Department, 21 Center Street, Folly Beach, SC 29439. | June 20, 2018 | 455415
South Dakota: Lawrence (FEMA Docket No.: B-1816). | City of Spearfish (18-08-0192P). | The Honorable Dana Boke, Mayor, City of Spearfish, 625 North 5th Street, Spearfish, SD 57783. | City Hall, 625 North 5th Street, Spearfish, SD 57783. | June 13, 2018 | 460046
Texas:
Bexar (FEMA Docket No.: B-1821). | City of San Antonio (17-06-0568P). | The Honorable Ron Nirenberg, Mayor, City of San Antonio, P.O. Box 839966, San Antonio, TX 78283. | Transportation and Capital Improvements Department, Storm Water Division, 1901 South Alamo Street, 2nd Floor, San Antonio, TX 78204. | June 25, 2018 | 480045
Collin (FEMA Docket No.: B-1821). | Town of Plano (17-06-3654P). | The Honorable Harry LaRosiliere, Mayor, City of Plano, 1520 K Avenue, Plano, TX 75074. | Engineering Department, 1520 K Avenue, Plano, TX 75074. | June 15, 2018 | 480140
Collin (FEMA Docket No.: B-1816). | Town of Prosper (18-06-0355P). | The Honorable Ray Smith, Mayor, Town of Prosper, P.O. Box 307, Prosper, TX 75078. | Engineering Services Department, 409 East 1st Street, Prosper, TX 75078. | June 14, 2018 | 480141
El Paso (FEMA Docket No.: B-1821). | City of El Paso (18-06-0747P). | Mr. Tommy Gonzales, Manager, City of El Paso, 300 North Campbell Street, El Paso, TX 79901. | City Hall, 801 Texas Avenue, El Paso, TX 79901. | June 18, 2018 | 480214
El Paso (FEMA Docket No.: B-1816). | City of El Paso (18-06-0885P). | Mr. Tommy Gonzales, Manager, City of El Paso, 300 North Campbell Street, El Paso, TX 79901. | City Hall, 801 Texas Avenue, El Paso, TX 79901. | June 12, 2018 | 480214
Fort Bend (FEMA Docket No.: B-1816). | City of Rosenberg (17-06-3041P). | The Honorable William T. “Bill” Benton, Mayor, City of Rosenberg, P.O. Box 32, Rosenberg, TX 77471. | City Hall, 2110 4th Street, Rosenberg, TX 77471. | June 12, 2018 | 480232
Fort Bend (FEMA Docket No.: B-1816). | Unincorporated areas of Fort Bend County (17-06-3041P). | The Honorable Robert Hebert, Fort Bend County Judge, 401 Jackson Street, Richmond, TX 77469. | Fort Bend County Engineering Department, 301 Jackson Street, Richmond, TX 77469. | June 12, 2018 | 480228
Harris (FEMA Docket No.: B-1821). | Unincorporated areas of Harris County (17-06-1728P). | The Honorable Edward M. Emmett, Harris County Judge, 1001 Preston Street, Suite 911, Houston, TX 77002. | Harris County Permit Office, 10555 Northwest Freeway, Suite 120, Houston, TX 77002. | June 11, 2018 | 480287
Harris (FEMA Docket No.: B-1821). | Unincorporated areas of Harris County (17-06-3887P). | The Honorable Edward M. Emmett, Harris County Judge, 1001 Preston Street, Suite 911, Houston, TX 77002. | Harris County Permit Office, 10555 Northwest Freeway, Suite 120, Houston, TX 77002. | June 11, 2018 | 480287
Harris (FEMA Docket No.: B-1821). | Unincorporated areas of Harris County (18-06-0276P). | The Honorable Edward M. Emmett, Harris County Judge, 1001 Preston Street, Suite 911, Houston, TX 77002. | Harris County Permit Office, 10555 Northwest Freeway, Suite 120, Houston, TX 77002. | June 18, 2018 | 480287
Tarrant (FEMA Docket No.: B-1821). | City of Fort Worth (17-06-4262P). | The Honorable Betsy Price, Mayor, City of Fort Worth, 200 Texas Street, Fort Worth, TX 76102. | Transportation and Public Works Department, 200 Texas Street, Fort Worth, TX 76102. | June 25, 2018 | 480596
Travis (FEMA Docket No.: B-1816). | City of Pflugerville (17-06-3914P). | The Honorable Victor Gonzales, Mayor, City of Pflugerville, P.O. Box 589, Pflugerville, TX 78691. | Development Services Department, 201-B East Pecan Street, Pflugerville, TX 78691. | June 18, 2018 | 481028
Utah: Box Elder (FEMA Docket No.: B-1816). | City of Perry City (17-08-1022P). | The Honorable Kevin Jeppsen, Mayor, City of Perry City, 3005 South 1200 West,Perry City, UT 84302. | City Hall, 3005 South 1200 West, Perry City, UT 84302. | June 14, 2018 | 490010
Virginia: Fairfax (FEMA Docket No.: B-1821). | Unincorporated areas of Fairfax County (17-03-2338P). | Mr. Bryan Hill, Fairfax County Executive, 12000 Government Center Parkway, Fairfax, VA 22035. | Fairfax County Government Center, 12000 Government Center Parkway, Suite 449, Fairfax, VA 22035. | June 20, 2018 | 515525
Wyoming: Teton (FEMA Docket No.: B-1816). | Unincorporated areas of Teton County (17-08-0693P). | The Honorable Mark Newcomb, Chairman, Teton County Board of Commissioners, P.O. Box 3594, Jackson, WY 83001. | Teton County Engineering Department, 320 South King Street, Jackson, WY 83001. | June 14, 2018 | 560094

[FR Doc. 2018-15386 Filed 7-18-18; 8:45 am]

BILLING CODE 9110-12-P